DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Generic Clearance for the Collection of Data Through ACTION III Field-Based Investigations to Improve Health Care Delivery.” In accordance with the Paperwork Reduction Act, 44 U.S.C. 3501-3521, AHRQ invites the public to comment on this proposed information collection.

DATES: Comments on this notice must be received by February 21, 2017.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by emails at doris.lefkowitz@AHRQ.hhs.gov.

SUPPLEMENTARY INFORMATION:

Proposed Project

Generic Clearance for the Collection of Data Through ACTION III Field-Based Investigations To Improve Health Care Delivery

The Agency for Healthcare Research and Quality (AHRQ) is requesting OMB approval of a generic clearance for purposes of conducting field-based research to improve care delivery in diverse health care settings. More specifically, AHRQ seeks this clearance to support timely and meaningful answers to research questions investigated through AHRQ's ACTION Program. ACTION III research produces field-based, stakeholder-informed knowledge about ways to improve care delivery, and real-world-driven implementation and dissemination of evidence across diverse care settings. A generic clearance to support expedited performance of ACTION III research activities would enable us to more efficiently meet agency goals while fully meeting the intent and requirements of the Paperwork Reduction Act in a timely manner.

Collection of the information described in this request is essential to supporting AHRQ's mission, which is to produce evidence to make health care safer, higher quality, more accessible, equitable, and affordable, and to work with HHS and other partners to make sure that the evidence is understood and used. More specifically, in support of this mission, AHRQ initiates and oversees projects with the following overarching aims:

• Expand knowledge about how specific changes to processes or structures of care delivery might improve care quality;

• Develop and test interventions, strategies, tools, trainings and guidance for putting that knowledge into practice;

• Disseminate and implement evidence-based practices across diverse care settings

This study is being conducted by AHRQ through its contractor, WESTAT, pursuant to AHRQ's statutory authority to conduct and support research on health care and on systems for the delivery of such care, including activities with respect to the quality, effectiveness, efficiency, appropriateness and value of health care services and with respect to quality measurement and improvement. 42 U.S.C 299a(a)(1) and (2).

Method of Collection

Information collections conducted under this clearance will be collected via the following methods:

• Interviews—Interviews (telephone or in-person) will be conducted with clinical or management staff from diverse health care settings, patients, or other providers or recipients of care with the purposes of: Expanding knowledge about how specific changes to processes or structures of care delivery might improve care quality; obtaining stakeholder-informed input about how and why an intervention or strategy will or won't work in a particular real world setting; identifying contextual factors that facilitate or impede implementation of complex system interventions or evidence-based practices; identifying needs and challenges of intended users of tools and/or beneficiaries of trainings and other resources.

• Small discussion groups/Focus groups—Small discussion groups/Focus groups will be conducted with providers or recipients of care from diverse health care settings with the purposes of: Obtaining stakeholder-informed input about how and why an intervention or strategy is or is not working in a particular real world setting and identifying needs and gaining user/beneficiary feedback on value and limitations of prototype redesigned care processes, tools, resources or trainings.

• Implementation Logs will be used to track activities, time and resource use associated with use of tools, trainings or other resources, and to monitor progress and identify needed revisions to implementation methods.

• Recruitment and Screening calls will be used to identify and enroll individuals, groups, or organizations that will be willing to participate in the broader research study

• Questionnaires or brief surveys will be used to capture broad, high level staff or patient level feedback on experience with tools, redesigned care processes, trainings or other resources.

• Cognitive testing of surveys, Web sites, or other resources will be used to support the development of materials that resonate and can be understood by intended users.

• Collection of published and internal documents, performance assessments, and other data or information will provide important contextual information about the specific settings of care into which new tools, resources, training, or redesigned care processes will be introduced.

AHRQ will use the proposed generic clearance to obtain field-based, stakeholder-informed input and feedback about how and why interventions or strategies designed to improve care quality (i.e., safety, effectiveness, patient-centeredness, timeliness, efficiency, and equity) do or do not work in the real world. Information collected under this clearance would be expected to increase understanding of how contextual factors and other key variables might affect the implementation and effectiveness of specific strategies, interventions or tools when utilized in particular settings. This knowledge would help health care providers and other decision-makers consider whether, when and how to use and adapt such strategies, interventions or tools to conform to their own needs and to the distinctive characteristics of the intended settings. Additionally, information collected under this clearance would be expected to increase AHRQ's understanding of contextual variables and other factors that facilitate or impede dissemination and implementation of clinical guidelines, evidence-based practices, and other research-based findings from the Patient-Centered Outcomes Research Institute (PCORI), National Institutes of Health (NIH), and other partners.

Estimated Annual Respondent Burden

As described above a variety of instruments and platforms will be used to collect information from respondents, though few, if any, single projects would be expected to use all the methods listed.

The average number annual burden hours per year requested (2189.5) are presented in Table 1 below, and is based on an assumed average of 5 projects per year (we rounded up the past average of 4.5 projects per year to 5). The maximum total burden across all three years is thus 6568.5 hours.

Table 1—Estimated Annualized Burden Hours
Data collection type | Number of respondents | Number of responses per respondent | Hours per response | Total burden hours
Interviews | 375 | 2 | 1 | 750
Focus Groups/Small Discussions | 420 | 1.5 | 1.5 | 945
Implementation Logs | 20 | 8 | 1 | 160
Recruitment and Screening | 139 | 1 | 0.5 | 69.5
Cognitive Testing | 40 | 1 | 1 | 40
Questionnaires/Brief Surveys | 1,000 | 1 | 0.2 | 200
Collection of Internal Documents | 25 | 1 | 1 | 25
Total |  |  |  | 2,189.5

Table 2—Estimated Annualized Cost Burden
Form name | Number of respondents | Total burden hours | Average hourly wage rate * | Total cost burden
Interviews | 250 | 500 | ᵃ $95.05 | $47,525.00
(Clinicians—line 1; Patients—line 2) | 125 | 250 | ᵇ 27.12 | 6780.00
Focus Groups/Small Discussions | 420 | 945 | ᶜ 27.12 | 25,628.40
Implementation Logs | 20 | 160 | ᶜ 27.12 | 4,339.20
Recruitment and Screening | 139 | 69.5 | ᵃ 95.05 | 6,605.98
Cognitive Testing | 40 | 40 | ᶜ 27.12 | 1,084.80
Questionnaires/Brief Surveys | 1000 | 200 | ᶜ 27.12 | 5,424.00
Collection of Internal Documents | 25 | 25 | ᵃ 95.05 | 2,376.25
Total |  |  |  | 99,763.63
* National Compensation Survey: Occupational wages in the United States May 2015 “U.S. Department of Labor, Bureau of Labor Statistics:” http://www.bls.gov/oes/current/oes_stru.htm.
ᵃ Based on the mean wages for 29-1069 Physicians and Surgeons, All Other.
ᵇ Based on the mean wages for 00-0000 All Occupations.
ᶜ Based on the mean wages for 29-9099 Miscellaneous Health Practitioners and Technical Workers: Healthcare Practitioners and Technical Workers, All Other.

Using average wage rates for relevant job categories from 2016 BLS data, the total annual costs associated with these data collections per year are $116,746.13 as shown in Table 2 above, for a total cost for all three years of $350,238.39.

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Sharon B. Arnold,
Deputy Director.

[FR Doc. 2016-30603 Filed 12-19-16; 8:45 am]

BILLING CODE 4160-90-P